DEPARTMENT OF AGRICULTURE

Agricultural Marketing Service

[Docket No. AMS-SC-18-0090; SC19-986-1]

Pecans Grown in the States of Alabama, Arkansas, Arizona, California, Florida, Georgia, Kansas, Louisiana, Missouri, Mississippi, North Carolina, New Mexico, Oklahoma, South Carolina, and Texas; Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request an extension for and revision to a currently approved information collection for Pecans Grown in the States of Alabama, Arkansas, Arizona, California, Florida, Georgia, Kansas, Louisiana, Missouri, Mississippi, North Carolina, New Mexico, Oklahoma, South Carolina, and Texas, Marketing Order No. 986.

DATES: Pursuant to the Paperwork Reduction Act, comments on information collection burden that would result from this notice must be received by May 14, 2019.

ADDRESSES: Interested persons are invited to submit written comments concerning this notice. Comments must be sent to the Docket Clerk, Marketing Order and Agreement Division, Specialty Crops Program, AMS, USDA, 1400 Independence Avenue SW, STOP 0237, Washington, DC 20250-0237; Fax: (202) 720-8938; or internet: www.regulations.gov. Comments should reference the docket number and the date and page number of this issue of the Federal Register and will be available for public inspection in the Office of the Docket Clerk during regular business hours, or can be viewed at: www.regulations.gov. All comments submitted in response to this notice will be included in the record and will be made available to the public. Please be advised that the identity of the individuals or entities submitting the comments will be made public on the internet at the address provided above.

FOR FURTHER INFORMATION CONTACT: Fiona Pexton, Marketing Order and Agreement Division, Specialty Crop Program, AMS, USDA, 1400 Independence Avenue SW, STOP 0237, Room 1406-S, Washington, DC 20250-0237; Telephone: (202) 720-2491 Fax: (202) 720-8938, or Email: Fiona.Pexton@usda.gov.

Small businesses may request information on this notice by contacting Richard Lower, Marketing Order and Agreement Division, Specialty Crops Program, AMS, USDA, 1400 Independence Avenue SW, STOP 0237, Washington, DC 20250-0237; Telephone: (202) 720-2491; Fax: (202) 720-8938; or Email: Richard.Lower@usda.gov.

SUPPLEMENTARY INFORMATION:

Title: Pecans Grown in multiple states, Marketing Order No. 981.

OMB Number: 0581-0291.

Expiration Date of Approval: August 31, 2019.

Type of Request: Extension and revision of a currently approved information collection.

Abstract: Marketing order programs provide an opportunity for producers of fresh fruits, vegetables, and specialty crops, in a specified production area, to work together to solve marketing problems that cannot be solved individually. Marketing order regulations help ensure adequate supplies of high quality product and adequate returns to producers. Marketing orders are authorized by the Agricultural Marketing Agreement Act of 1937 (Act), as amended (7 U.S.C. 601-674). The Secretary of Agriculture oversees these operations and issues regulations recommended by a committee of representatives from the respective commodity industry.

The purpose of this notice is to solicit public comments on the sixteen forms in this OMB package which are described below. Two ballot forms for committee nominations (SC-307 and SC-308), two grower and sheller nomination forms (SC-309 and SC-310) as well as two background and acceptance statements forms for growers and shellers and public members (SC-8 and SC-9) and a grower referendum ballot (SC-313). Two marketing agreements (SC-242 and SC-242A) are also included. In addition, this package includes seven reporting forms the American Pecan Council uses to track shipments and inventory. The Summary Report (Form 1); Report of Shipment and Inventory on Hand (Form 2); Export by Country of Destination (Form 3); Inter-handler Transfer (Form 4); Inshell Pecan Exported to Mexico for Shelling and Returned to the United States as Shelled Meat (Form 5); Pecans Purchased Outside of the United States (Form 6); and Year-end Inventory Report (Form 7). The number of producers has changed from 5,500 to 2,500 since the last renewal. Now that the marketing order has been in place for a few years, the industry has a better understanding of the actual numbers of producers in the industry.

Estimate of Burden: Public reporting burden for this collection of information is estimated to average .31 hours per response (rounded).

Respondents: Pecan producers, handlers, and shellers.

Estimated Number of Respondents: 2,750.

Estimated Total Annual of Responses: 9,344.

Estimated Number of Responses per Respondent: 3.40 (rounded).

Estimated Total Annual Burden on Respondents: 2,931 (rounded).

Comments: Comments are invited on: (1) Whether the proposed collection of the information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including through the use of appropriate automated, electronic, mechanical, or other technological collection techniques or other forms of information technology.

All responses to this notice will be summarized and included in the request for OMB approval. All comments will also become a matter of public record.

Dated: March 12, 2019.
Bruce Summers,
Administrator, Agricultural Marketing Service.

[FR Doc. 2019-04861 Filed 3-14-19; 8:45 am]

BILLING CODE 3410-02-P